DEPARTMENT OF HOMELAND SECURITY

Coast Guard

33 CFR Part 165

[Docket Number USCG-2021-0014]

RIN 1625-AA00

Safety Zones; Coast Guard Sector Ohio Valley Annual and Recurring Safety Zones Update

AGENCY: Coast Guard, Department of Homeland Security (DHS).

ACTION: Final rule.

SUMMARY: The Coast Guard is amending and updating its safety zone regulations for annual events that take place in the Coast Guard Sector Ohio Valley area. This action is necessary to update the current list of recurring safety zones with revisions, additional events, and removal of events that no longer take place in the Sector Ohio Valley. When these safety zones are enforced, certain restrictions are placed on marine traffic in specified areas.

DATES: This rule is effective May 18, 2021.

ADDRESSES: To view documents mentioned in this preamble as being available in the docket, go to https://www.regulations.gov, type USCG-2021-0014 in the “SEARCH” box and click “SEARCH.” Click on Open Docket Folder on the line associated with this rule.

FOR FURTHER INFORMATION CONTACT: If you have questions on this rule, call or email Petty Officer Christopher Roble, Sector Ohio Valley, U.S. Coast Guard; telephone (502)-779-5336, email SECOHV-WWM@uscg.mil.

SUPPLEMENTARY INFORMATION:

I. Table of Abbreviations

AOR Area of Responsibility

CFR Code of Federal Regulations

COTP Captain of the Port Sector Ohio Valley

DHS Department of Homeland Security

E.O. Executive Order

FR Federal Register

NPRM Notice of proposed rulemaking

§ Section

U.S.C. United States Code

II. Background Information and Regulatory History

The Captain of the Port Sector Ohio Valley (COTP) is amending 33 CFR 165.801 to update the table of annual fireworks displays and other events in Coast Guard Sector Ohio Valley Area of Responsibility (AOR). These events include air shows, fireworks displays, and other events requiring a safety zone.

On February 24, 2021, the Coast Guard published a notice of proposed rulemaking (NPRM) titled, “Safety Zones; Coast Guard Sector Ohio Valley Annual and Recurring Safety Zones Update” (86 FR 11198). There we stated why we issued the NPRM, and invited comments on our proposed regulatory action related to those recurring safety zones. During the comment period that ended on March 26, 2021, no comments were received.

Under 5 U.S.C. 553(d)(3), the Coast Guard finds that good cause exists for making this rule effective less than 30 days after publication in the Federal Register. Delaying the effective date of this rule would be contrary to the public interest because immediate action is necessary to respond to the potential safety hazards associated with these events.

III. Legal Authority and Need for Rule

The Coast Guard is issuing this rule under authority in 46 U.S.C. 70034 (previously 33 U.S.C. 1231). The Coast Guard is amending and updating the safety zones under 33 CFR part 165 to include the most up to date list of recurring safety zones for events held on or around navigable waters within the Sector Ohio Valley AOR. These events include fireworks displays, air shows, and festivals. The current list in 33 CFR 165.801 requires amending to provide new information on existing safety zones and to include new safety zones expected to recur annually or biannually. Issuing individual regulations for each new safety zone, amendment of existing safety zones creates unnecessary administrative costs and burdens. This rulemaking reduces administrative overhead and provides the public with notice through publication in the Federal Register of the upcoming recurring safety zones. Based on the nature of these events, large numbers of participants and spectators, and event locations, the COTP has determined that the events listed in this rule could pose a risk to participants or waterways users if the normal vessel traffic were to interfere with the events. Possible hazards include risks of injury or death from near or actual contact among participant vessels and spectators or mariners traversing through the regulated area. This purpose of this rule is to ensure the safety of all waterway users, including event participants and spectators, during the scheduled events.

IV. Discussion of Comments, Changes, and the Rule

As noted above, we received no comments on our NPRM published February 24, 2021. There are no changes in the regulatory text of this rule from the proposed rule on the NPRM.

This rule amends and updates part 165 or 33 CFR by revising the current table for Sector Ohio Valley, and by adding two new recurring safety zones as described in the NPRM. Vessels intending to transit the designated waterway through the safety zone will only be allowed to transit the area when the COTP, or a designated representative, has deemed it safe to do so or at the completion of the event.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, this rule has not been reviewed by the Office of Management and Budget (OMB).

This regulatory action determination is based on the size, location, and duration of the safety zones. These safety zones are limited in size and duration, and are usually positioned away from high vessel traffic areas. Moreover, the Coast Guard would issue a Broadcast Notices to Mariners, Local Notices to Mariners, and Marine Safety Information Broadcasts to inform the community of these safety zones.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zones may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. It is categorically excluded from further review under paragraph L of Appendix A, Table 1 of DHS Instruction Manual 023-01-001-01, Rev. 1. A Record of Environmental Consideration supporting this determination for each of the safety zones will be made available in the docket before the event. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051; 33 CFR 1.05-1, 6.04-1, 6.04-6, and 160.5; Department of Homeland Security Delegation No. 0170.1.

2. In § 165.801, revise table 1 to read as follows:

§ 165.801 Annual fireworks displays and other events in the Eighth Coast Guard District recurring safety zones.

* * * * *

Table 1 of § 165.801—Sector Ohio Valley Annual and Recurring Safety Zones
Date | Sponsor/name | Sector Ohio Valley location | Safety zone
1. 3 days—Third or Fourth weekend in April | Henderson Breakfast Lions Club Tri-Fest | Henderson, KY | Ohio River, Miles 802.5-805.5 (Kentucky).
2. Multiple days—April through November | Pittsburgh Pirates Season Fireworks | Pittsburgh, PA | Allegheny River, Miles 0.2-0.9 (Pennsylvania).
3. Multiple days—April through November | Cincinnati Reds Season Fireworks | Cincinnati, OH | Ohio River, Miles 470.1-470.4; extending 500 ft. from the State of Ohio shoreline (Ohio).
4. Multiple days—April through November | Pittsburgh Riverhounds Season Fireworks | Pittsburgh, PA | Monongahela River, Miles 0.22-0.77 (Pennsylvania).
5. 1 day—First week in May | Belterra Park Gaming Fireworks | Cincinnati, OH | Ohio River, Miles 460.0-462.0 (Ohio).
6. 3 days in May | US Rowing Southeast Youth Championship Regatta | Oak Ridge, TN | Clinch River, Miles 48.5-52 (Tennessee).
7. 1 day—One Friday in May prior to memorial day | Live on the Levee Memorial Day Fireworks/City of Charleston | Charleston, WV | Kanawha River, Mile 58.1-59.1 (West Virginia).
8. 1 day—Saturday before Memorial Day | Venture Outdoors Festival | Pittsburgh, PA | Allegheny River, Miles 0.0-0.25; Monongahela River, Miles 0.0-0.25 (Pennsylvania).
9. 3 days in June | CMA Festival | Nashville, TN | Cumberland River, Miles 190.7-191.1 extending 100 feet from the left descending bank (Tennessee)
10. 1 day in June | Cumberland River Compact/Nashville Splash Bash | Nashville, TN | Cumberland River, Miles 189.7-192.1 (Tennessee).
11. 2 days—A weekend in June | Rice's Landing Riverfest | Rice's Landing, PA | Monongahela River, Miles 68.0-68.8 (Pennsylvania).
12. 2 days—Second Friday and Saturday in June | City of Newport, KY/Italianfest | Newport, KY | Ohio River, Miles 468.6-471.0 (Kentucky and Ohio).
13. 1 day in June | Friends of the Festival, Inc./Riverbend Festival Fireworks | Chattanooga, TN | Tennessee River, Miles 462.7-465.2 (Tennessee).
14. 1 day—Second or Third week of June | TriState Pottery Festival Fireworks | East Liverpool, OH | Ohio River, Miles 42.5-45.0 (Ohio).
15. 3 days—One of the last three weekends in June | Hadi Shrine/Evansville Freedom Festival Air Show | Evansville, IN | Ohio River, Miles 790.0-796.0 (Indiana).
16. 1 day—One weekend in June | West Virginia Symphony Orchestra/Symphony Sunday | Charleston, WV | Kanawha River, Miles 59.5-60.5 (West Virginia).
17. One weekend in June | Alzheimer's Water Lantern Festival/IC Care | Wheeling, WV | Ohio River Mile 90.3-91.8.
18. 1 day—Last weekend in June or first weekend in July | Riverview Park Independence Festival | Louisville, KY | Ohio River, Miles 617.5-620.5 (Kentucky).
19. 1 day—Last weekend in June or First weekend in July | City of Point Pleasant/Point Pleasant Sternwheel Fireworks | Point Pleasant, WV | Ohio River, Miles 265.2-266.2, Kanawha River Miles 0.0-0.5 (West Virginia).
20. 1 day—Last weekend in June or first weekend in July | City of Aurora/Aurora Firecracker Festival | Aurora, IN | Ohio River, Mile 496.7; 1400 ft. radius from the Consolidated Grain Dock located along the State of Indiana shoreline at (Indiana and Kentucky).
21. 1 day—Last week of June or first week of July | PUSH Beaver County/Beaver County Boom | Beaver, PA | Ohio River, Miles 25.2-25.6 (Pennsylvania).
22. 1 day—Last weekend in June or first week in July | Evansville Freedom Celebration/4th of July Fireworks | Evansville, IN | Ohio River, Miles 790.0-796.0 (Indiana).
23. 1 day—Last week in June or first week of July | Newburgh Fireworks Display | Newburgh, IN | Ohio River, Miles 777.3-778.3 (Indiana).
24. 1 day—Last week in June or First week in July | Rising Sun Fireworks | Rising Sun, IN | Ohio River, Miles 506.0-507.0 (Indiana).
25. 1 day—Weekend before the 4th of July | Kentucky Dam Marine/Kentucky Dam Marina Fireworks | Gilbertsville, KY | 350 foot radius, from the fireworks launch site, on the entrance jetties at Kentucky Dam Marina, on the Tennessee River at Mile Marker 23 (Kentucky).
26. 1 day in July | Town of Cumberland City/Lighting up the Cumberlands | Cumberland City, TN | Cumberland River, Miles 103.0-105.5 (Tennessee).
27. 1 day in July | Chattanooga Presents/Pops on the River | Chattanooga, TN | Tennessee River, Miles 462.7-465.2 (Tennessee).
28. 1 day in July | Randy Boyd/Independence Celebration Fireworks Display | Knoxville, TN | Tennessee River, Miles 625.0-628.0 (Tennessee).
29. 1 day—July 3rd | Moors Resort and Marina/Kentucky Lake Big Bang | Gilbertsville, KY | 600 foot radius, from the fireworks launch site, on the entrance jetty to Moors Resort and Marina, on the Tennessee River at mile marker 30.5. (Kentucky).
30. 1 day—3rd or 4th of July | City of Paducah, KY | Paducah, KY | Ohio River, Miles 934.0-936.0; Tennessee River, Miles 0.0-1.0 (Kentucky).
31. 1 day—3rd or 4th of July | City of Hickman, KY/Town Of Hickman Fireworks | Hickman, KY | 700 foot radius from GPS coordinate 36°34.5035 N, 089°11.919 W, in Hickman Harbor located at mile marker 921.5 on the Lower Mississippi River (Kentucky).
32. 1 day—July 4th | City of Knoxville/Knoxville Festival on the 4th | Knoxville, TN | Tennessee River, Miles 646.3-648.7 (Tennessee).
33. 1 day in July | Nashville NCVC/Independence Celebration | Nashville, TN | Cumberland River, Miles 189.7-192.3 (Tennessee).
34. 1 day in July | Shoals Radio Group/Spirit of Freedom Fireworks | Florence, AL | Tennessee River, Miles 254.5-257.4 (Alabama).
35. 1 day—4th of July (Rain date—July 5th) | Monongahela Area Chamber of Commerce/Monongahela 4th of July Celebration | Monongahela, PA | Monongahela River, Milse 032.0-033.0 (Pennsylvania).
36. 1 day—July 4th | Cities of Cincinnati, OH and Newport, KY/July 4th Fireworks | Newport, KY | Ohio River, Miles 469.6-470.2 (Kentucky and Ohio).
37. 1 day—July 4th | Wellsburg 4th of July Committee/Wellsburg 4th of July Freedom Celebration | Wellsburg, WV | Ohio River, Miles 73.5-74.5 (West Virginia).
38. 1 day—week of July 4th | Wheeling Symphony fireworks | Wheeling, WV | Ohio River, Miles 90-92 (West Virginia).
39. 1 day—First week or weekend in July | Summer Motions Inc./Summer Motion | Ashland, KY | Ohio River, Miles 322.1-323.1 (Kentucky).
40. 1 day—week of July 4th | Chester Fireworks | Chester, WV | Ohio River mile 42.0-44.0 (West Virginia).
41. 1 day—First week of July | Toronto 4th of July Fireworks | Toronto, OH | Ohio River, Mile 58.2-58.8 (Ohio).
42. 1 day—First week of July | Cincinnati Symphony Orchestra | Cincinnati, OH | Ohio River, Miles 460.0-462.0 (Ohio).
43. 1 day—First weekend or week in July | Queen's Landing Fireworks | Greenup, KY | Ohio River, Miles 339.3-340.3 (West Virginia).
44. 1 day—First week or weekend in July | Gallia County Chamber of Commerce/Gallipolis River Recreation Festival | Gallipolis, OH | Ohio River, Miles 269.5-270.5 (Ohio).
45. 1 day—First week or weekend in July | Kindred Communications/Dawg Dazzle | Huntington, WV | Ohio River, Miles 307.8-308.8 (West Virginia).
46. 1 day—First week or weekend in July | Greenup City | Greenup, KY | Ohio River, Miles 335.2-336.2 (Kentucky).
47. 1 day—First week or weekend in July | Middleport Community Association | Middleport, OH | Ohio River, Miles 251.5-252.5 (Ohio).
48. 1 day—First week or weekend in July | People for the Point Party in the Park | South Point, OH | Ohio River, Miles 317-318 (Ohio).
49. 1 day—One of the first two weekends in July | City of Bellevue, KY/Bellevue Beach Park Concert Fireworks | Bellevue, KY | Ohio River, Miles468.2-469.2 (Kentucky & Ohio).
50. 1 day—First Week of July | Pittsburgh 4th of July Celebration | Pittsburgh, PA | Ohio River, Miles 0.0-0.5, Allegheny River, Miles 0.0-0.5, and Monongahela River, Miles 0.0-0.5 (Pennsylvania).
51. 1 day—First week or weekend in July | City of Charleston/City of Charleston Independence Day Celebration | Charleston, WV | Kanawha River, Miles 58.1-59.1 (West Virginia).
52. 1 day—First week or weekend in July | Portsmouth River Days | Portsmouth, OH | Ohio River, Miles 355.5-357.0 (Ohio).
53. 1 day—During the first week of July | Louisville Bats Baseball Club/Louisville Bats Firework Show | Louisville, KY | Ohio River, Miles 602.0-605.0 (Kentucky).
54. 1 day—During the first week of July | Waterfront Independence Festival/Louisville Orchestra Waterfront 4th | Louisville, KY | Ohio River, Miles 602.0-605.0 (Kentucky).
55. 1 day—During the first week of July | Celebration of the American Spirit Fireworks/All American 4th of July | Owensboro, KY | Ohio River, Miles 754.0-760.0 (Kentucky).
56. 1 day—During the first week of July | Riverfront Independence Festival Fireworks | New Albany, IN | Ohio River, Miles 606.5-609.6 (Indiana).
57. 1 day in July | Grand Harbor Marina/Grand Harbor Marina July 4th Celebration | Counce, TN | Tennessee-Tombigbee Waterway, Miles 448.5-451.0 (Tennessee).
58. 1 night in July | Steubenville fireworks | Steubenville, OH | Ohio River Mile 67.5- 68.5
59. 1 day—During the first two weeks of July | City of Maysville Fireworks | Maysville, KY | Ohio River, Miles 408-409 (Kentucky).
60. 1 day—One of the first two weekends in July | Madison Regatta, Inc./Madison Regatta | Madison, IN | Ohio River, Miles 554.0-561.0 (Indiana).
61. 1 day—Third Saturday in July | Pittsburgh Irish Rowing Club/St. Brendan's Cup Currach Regatta | Pittsburgh, PA | Ohio River, Miles 7.0-9.0 (Pennsylvania).
62. 1 day—Third or fourth week in July | Upper Ohio Valley Italian Heritage Festival/Upper Ohio Valley Italian Heritage Festival Fireworks | Wheeling, WV | Ohio River, Miles 90.0-90.5 (West Virginia).
63. 1 day—Saturday Third or Fourth full week of July (Rain date—following Sunday) | Oakmont Yacht Club/Oakmont Yacht Club Fireworks | Oakmont, PA | Allegheny River, Miles 12.0-12.5 (Pennsylvania).
64. 2 days—One weekend in July | Marietta Riverfront Roar Fireworks | Marietta, OH | Ohio River, Miles 171.6-172.6 (Ohio).
65. 1 Day in July | Three Rivers Regatta | Knoxville, TN | Tennessee River, Miles 642-653 (Tennessee).
66. 1 day—Last weekend in July or first weekend in August | Fort Armstrong Folk Music Festival | Kittanning, PA | Allegheny River, Mile 45.1-45.5 (Pennsylvania).
67. 1 day—First week of August | Kittaning Folk Festival | Kittanning, PA | Allegheny River, Miles 44.0-46.0 (Pennsylvania).
68. 1 day—First week in August | Gliers Goetta Fest LLC | Newport, KY | Ohio River, Miles 469.0-471.0.
69. 1 day—First or second week of August | Bellaire All-American Days | Bellaire, OH | Ohio River, Miles 93.5-94.5 (Ohio).
70. 1 day—Second full week of August | PA FOB Fireworks Display | Pittsburgh, PA | Allegheny River, Miles 0.8-1.0 (Pennsylvania).
71. 1 day—Second Saturday in August | Guyasuta Days Festival/Borough of Sharpsburg | Pittsburgh, PA | Allegheny River, Miles 005.5-006.0 (Pennsylvania).
72. 1 day—In the Month of August | Pittsburgh Foundation/Bob O'Connor Cookie Cruise | Pittsburgh, PA | Ohio River, Mile 0.0-0.5 (Pennsylvania).
73. 1 day—Third week of August | Beaver River Regatta Fireworks | Beaver, PA | Ohio River, Miles 25.2-25.8 (Pennsylvania).
74. 1 day—One weekend in August | Parkersburg Homecoming Festival-Fireworks | Parkersburg, WV | Ohio River, Miles 183.5-185.5 (West Virginia).
75. 1 day—One weekend in August | Ravenswood River Festival | Ravenswood, WV | Ohio River, Miles 220-221 (West Virginia).
76. 1 day—The second or third weekend of August | Green Turtle Bay Resort/Grand Rivers Marina Day | Grand Rivers, KY | 420 foot radius, from the fireworks launch site, at the entrance to Green Turtle Bay Resort, on the Cumberland River at mile marker 31.5. (Kentucky).
77. 1 day—last 2 weekends in August/first week of September | Wheeling Dragon Boat Race | Wheeling, WV | Ohio River, Miles 90.4-91.5 (West Virginia).
78. Sunday, Monday, or Thursday from August through February | Pittsburgh Steelers Fireworks | Pittsburgh, PA | Allegheny River, Miles 0.0-0.25, Ohio River, Miles 0.0-0.1, Monongahela River, Miles 0.0-0.1. (Pennsylvania).
79. 1 day—Labor day | Portsmouth Labor Day Fireworks/Hamburg Fireworks | Portsmouth, OH | Ohio River, Mile 355.8-356.8 (Ohio)
80. 1 day—one weekend before Labor Day | Riverfest/Riverfest Inc | Nitro, WV | Kanawha River, Miles 43.1-44.2 (West Virginia).
81. 2 days—Sunday before Labor Day and Labor Day | Cincinnati Bell, WEBN, and Proctor and Gamble/Riverfest | Cincinnati, OH | Ohio River, Miles 469.2-470.5 (Kentucky and Ohio) and Licking River, Miles 0.0-3.0 (Kentucky).
82. 1 day—Labor Day or first week of September | Labor Day Fireworks Show | Marmet, WV | Kanawha River, Miles 67.5-68 (West Virginia).
83. 1 day in September | Nashville Symphony/Concert Fireworks | Nashville, TN | Cumberland River, Miles 190.1-192.3 (Tennessee).
84. 1 day—Second weekend in September | City of Clarksville/Clarksville Riverfest | Clarksville, TN | Cumberland River, Miles 124.5-127.0 (Tennessee).
85. 3 days—Second or third week in September | Wheeling Heritage Port Sternwheel Festival Foundation/Wheeling Heritage Port Sternwheel Festival | Wheeling, WV | Ohio River, Miles 90.2-90.7 (West Virginia).
86. 1 day—One weekend in September | Boomtown Days—Fireworks | Nitro, WV | Kanawha River, Miles 43.1-44.2 (West Virginia).
87. 1 day—One weekend in September | Ohio River Sternwheel Festival Committee fireworks | Marietta, OH | Ohio River, Miles 171.5-172.5 (Ohio).
88. 1 day—One weekend in September | Tribute to the River | Point Pleasant, WV | Ohio River, Miles 264.6-265.6 (West Virginia).
89. 1 day—One weekend in September | Aurora Fireworks | Aurora, IN | Ohio River, Mile 496.3-497.3 (Ohio).
90. 1 day—Last two weekends in September | Cabana on the River | Cincinnati, OH | Ohio River, Mile 483.2-484.2 (Ohio).
91. Multiple days—September through January | University of Pittsburgh Athletic Department/University of Pittsburgh Fireworks | Pittsburgh, PA | Ohio River, Miles 0.0-0.1, Monongahela River, Miles 0.0-0.1, Allegheny River, Miles 0.0-0.25 (Pennsylvania).
92. 1 day—First three weeks of October | Leukemia & Lymphoma Society/Light the Night | Pittsburgh, PA | Ohio River, Mile 0.0-0.5, Allegheny River, Mile 0.0-0.5, and Monongahela River, Mile 0.0-0.5 (Pennsylvania).
93. 1 day in October | Leukemia and Lymphoma Society/Light the Night Walk Fireworks | Nashville, TN | Cumberland River, Miles 189.7-192.1 (Tennessee).
94. 1 day—First two weeks in October | Yeatman's Fireworks | Cincinnati, OH | Ohio River, Miles 469.0-470.5 (Ohio).
95. 1 day in October | Outdoor Chattanooga/Swim the Suck | Chattanooga, TN | Tennessee River, Miles 452.0-454.5 (Tennessee).
96. 1 day in October | Chattajack | Chattanooga, TN | Tennessee River, Miles 462.7-465.5 (Tennessee).
97. 1 day—One weekend in October | West Virginia Motor Car Festival | Charleston, WV | Kanawha River, Miles 58-59 (West Virginia).
98. 2 days—One of the last three weekends in October | Monster Pumpkin Festival | Pittsburgh, PA | Allegheny River, Mile 0.0-0.25 (Pennsylvania).
99. 1 day—Friday before Thanksgiving | Pittsburgh Downtown Partnership/Light Up Night | Pittsburgh, PA | Allegheny River, Miles 0.0-1.0 (Pennsylvania).
100. 1 day—Friday before Thanksgiving | Kittanning Light Up Night Firework Display | Kittanning, PA | Allegheny River, Miles 44.5-45.5 (Pennsylvania).
101. 1 day—Friday before Thanksgiving | Santa Spectacular/Light up Night | Pittsburgh, PA | Ohio River, Mile 0.0-0.5, Allegheny River, Mile 0.0-0.5, and Monongahela River, Mile 0.0-0.5 (Pennsylvania).
102. 1 day—Friday before Thanksgiving | Monongahela Holiday Show | Monongahela, PA | Ohio River, Miles 31.5-32.5 (Pennsylvania).
103. 1 day in November | Friends of the Festival/Cheer at the Pier | Chattanooga, TN | Tennessee River, Miles 462.7-465.2 (Tennessee).
104. 1 day—Third week of November | Gallipolis in Lights | Gallipolis, OH | Ohio River, Miles 269.2-270 (Ohio).
105. 1 day—December 31 | Pittsburgh Cultural Trust/Highmark First Night Pittsburgh | Pittsburgh, PA | Allegheny River, Miles 0.5-1.0 (Pennsylvania).
106. 7 days—Scheduled home games | University of Tennessee/UT Football Fireworks | Knoxville, TN | Tennessee River, Miles 645.6-648.3 (Tennessee).

* * * * *

Dated: May 13, 2021.
A.M. Beach,
Captain, U. S. Coast Guard, Captain of the Port Sector Ohio Valley.

[FR Doc. 2021-10464 Filed 5-17-21; 8:45 am]

BILLING CODE 9110-04-P